DEPARTMENT OF HOMELAND SECURITY

Federal Emergency Management Agency

44 CFR Part 64

[Docket ID FEMA-2014-0002; Internal Agency Docket No. FEMA-8371]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date. Also, information identifying the current participation status of a community can be obtained from FEMA's Community Status Book (CSB). The CSB is available at http://www.fema.gov/fema/csb.shtm.

DATES: The effective date of each community's scheduled suspension is the third date (“Susp.”) listed in the third column of the following tables.

FOR FURTHER INFORMATION CONTACT: If you want to determine whether a particular community was suspended on the suspension date or for further information, contact Bret Gates, Federal Insurance and Mitigation Administration, Federal Emergency Management Agency, 500 C Street SW., Washington, DC 20472, (202) 646-4133.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for Part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region II
New York:
Albany, City of, Albany County | 360001 | November 1, 1974, Emerg; April 15, 1980, Reg; March 16, 2015, Susp | March 16, 2015 | March 16, 2015.
Altamont, Village of, Albany County | 360002 | November 6, 1975, Emerg; August 15, 1983, Reg; March 16, 2015, Susp | ......do * | Do.
Berne, Town of, Albany County | 360003 | June 4, 1975, Emerg; August 1, 1987, Reg; March 16, 2015, Susp | ......do | Do.
Bethlehem, Town of, Albany County | 361540 | October 29, 1974, Emerg; June 15, 1983, Reg; March 16, 2015, Susp | ......do | Do.
Coeymans, Town of, Albany County | 360005 | July 31, 1974, Emerg; August 3, 1989, Reg; March 16, 2015, Susp | ......do | Do.
Cohoes, City of, Albany County | 360006 | May 25, 1973, Emerg; December 4, 1979, Reg; March 16, 2015, Susp | ......do | Do.
Colonie, Town of, Albany County | 360007 | February 25, 1974, Emerg; September 5, 1979, Reg; March 16, 2015, Susp | ......do | Do.
Green Island, Village of, Albany County | 360009 | December 3, 1974, Emerg; June 4, 1980, Reg; March 16, 2015, Susp | ......do | Do.
Guilderland, Town of, Albany County | 360010 | October 9, 1974, Emerg; January 6, 1983, Reg; March 16, 2015, Susp | ......do | Do.
Knox, Township of, Albany County | 360011 | October 26, 1979, Emerg; August 13, 1982, Reg; March 16, 2015, Susp | ......do | Do.
Menands, Village of, Albany County | 360012 | July 25, 1974, Emerg; March 18, 1980, Reg; March 16, 2015, Susp | ......do | Do.
New Scotland, Town of, Albany County | 360013 | July 31, 1975, Emerg; December 1, 1982, Reg; March 16, 2015, Susp | ......do | Do.
Ravena, Village of, Albany County | 361346 | October 29, 1979, Emerg; April 2, 1982, Reg; March 16, 2015, Susp | ......do | Do.
Rensselaerville, Town of, Albany County | 360014 | May 13, 1977, Emerg; August 27, 1982, Reg; March 16, 2015, Susp | ......do | Do.
Voorheesville, Village of, Albany County | 360015 | June 11, 1975, Emerg; December 1, 1982, Reg; March 16, 2015, Susp | ......do | Do.
Watervliet, City of, Albany County | 360016 | November 29, 1974, Emerg; January 2, 1980, Reg; March 16, 2015, Susp | ......do | Do.
Westerlo, Town of, Albany County | 360017 | June 17, 1975, Emerg; August 3, 1989, Reg; March 16, 2015, Susp | ......do | Do.
Region III
Delaware:
Bethany Beach, Town of, Sussex County | 105083 | November 12, 1971, Emerg; April 6, 1973, Reg; March 16, 2015, Susp | ......do | Do.
Bethel, Town of, Sussex County | 100055 | January 22, 1976, Emerg; January 16, 1981, Reg; March 16, 2015, Susp | ......do | Do.
Blades, Town of, Sussex County | 100031 | May 30, 1975, Emerg; January 16, 1981, Reg; March 16, 2015, Susp | ......do | Do.
Bridgeville, Town of, Sussex County | 100032 | May 13, 1975, Emerg; January 7, 1977, Reg; March 16, 2015, Susp | ......do | Do.
Dewey Beach, Town of, Sussex County | 100056 | June 18, 1982, Emerg; June 18, 1982, Reg; March 16, 2015, Susp | ......do | Do.
Fenwick Island, Town of, Sussex County | 105084 | November 19, 1971, Emerg; March 23 1973, Reg; March 16, 2015, Susp | ......do | Do.
Frankford, Town of, Sussex County | 100037 | July 17, 1975, Emerg; September 16, 1981, Reg; March 16, 2015, Susp | ......do | Do.
Georgetown, Town of, Sussex County | 100062 | N/A, Emerg; May 5, 2003, Reg; March 16, 2015, Susp | ......do | Do.
Greenwood, Town of, Sussex County | 100039 | July 30, 1975, Emerg; February 24, 1978, Reg; March 16, 2015, Susp | ......do | Do.
Lewes, City of, Sussex County | 100041 | March 23, 1973, Emerg; March 15, 1977, Reg; March 16, 2015, Susp | ......do | Do.
Milford, City of, Kent and Sussex Counties | 100042 | June 5, 1974, Emerg; June 1, 1977, Reg; March 16, 2015, Susp | ......do | Do.
Millsboro, Town of, Sussex County | 100043 | May 28, 1974, Emerg; September 1, 1978, Reg; March 16, 2015, Susp | ......do | Do.
Millville, Town of, Sussex County | 100044 | October 2, 1978, Emerg; September 25, 1981, Reg; March 16, 2015, Susp | ......do | Do.
Ocean View, Town of, Sussex County | 100046 | July 1, 1975, Emerg; September 3, 1980, Reg; March 16, 2015, Susp | ......do | Do.
Rehoboth Beach, City of, Sussex County | 105086 | February 11, 1972, Emerg; March 30, 1973, Reg; March 16, 2015, Susp | ......do | Do.
Seaford, City of, Sussex County | 100048 | October 2, 1974, Emerg; February 1, 1979, Reg; March 16, 2015, Susp | ......do | Do.
Selbyville, Town of, Sussex County | 100038 | February 12, 1990, Emerg; July 16, 1991, Reg; March 16, 2015, Susp | ......do | Do.
Slaughter Beach, Town of, Sussex County | 100050 | May 28, 1974, Emerg; July 2, 1980, Reg; March 16, 2015, Susp | ......do | Do.
South Bethany, Town of, Sussex County | 100051 | September 15, 1972, Emerg; October 6, 1976, Reg; March 16, 2015, Susp | ......do | Do.
Sussex County, Unincorporated Areas | 100029 | April 16, 1971, Emerg; October 6, 1976, Reg; March 16, 2015, Susp | ......do | Do.
Maryland:
Brookview, Town of, Dorchester County | 240097 | March 17, 1976, Emerg; January 7, 1977, Reg; March 16, 2015, Susp | ......do | Do.
Cambridge, City of, Dorchester County | 240098 | August 12, 1975, Emerg; January 16, 1981, Reg; March 16, 2015, Susp | ......do | Do.
Church Creek, Town of, Dorchester County | 240101 | N/A, Emerg; July 25, 1995, Reg; March 16, 2015, Susp | ......do | Do.
Dorchester County, Unincorporated Areas | 240026 | January 23, 1974, Emerg; October 15, 1981, Reg; March 16, 2015, Susp | ......do | Do.
Eldorado, Town of, Dorchester County | 240105 | November 11, 1975, Emerg; December 15, 1978, Reg; March 16, 2015, Susp | ......do | Do.
Galestown, Town of, Dorchester County | 240106 | June 2, 2004, Emerg; May 24, 2011, Reg; March 16, 2015, Susp | ......do | Do.
Hurlock, Town of, Dorchester County | 240112 | September 18, 1975, Emerg; January 16, 1981, Reg; March 16, 2015, Susp | ......do | Do.
Secretary, Town of, Dorchester County | 240123 | June 13, 1975, Emerg; December 19, 1980, Reg; March 16, 2015, Susp | ......do | Do.
Vienna, Town of, Dorchester County | 240127 | December 12, 1975, Emerg; December 15, 1978, Reg; March 16, 2015, Susp | ......do | Do.
Pennsylvania:
Bedminster, Township of, Bucks County | 421049 | February 5, 1976, Emerg; December 1, 1983, Reg; March 16, 2015, Susp | ......do | Do.
Bensalem, Township of, Bucks County | 420181 | December 15, 1972, Emerg; July 17, 1978, Reg; March 16, 2015, Susp | ......do | Do.
Bridgeton, Township of, Bucks County | 420182 | December 10, 1971, Emerg; September 30, 1977, Reg; March 16, 2015, Susp | ......do | Do.
Bristol, Borough of, Bucks County | 420183 | September 15, 1972, Emerg; December 18, 1979, Reg; March 16, 2015, Susp | ......do | Do.
Bristol, Township of, Bucks County | 420984 | November 10, 1972, Emerg; September 29, 1978, Reg; March 16, 2015, Susp | ......do | Do.
Buckingham, Township of, Bucks County | 420985 | January 15, 1974, Emerg; March 15, 1979, Reg; March 16, 2015, Susp | ......do | Do.
Chalfont, Borough of, Bucks County | 420184 | February 25, 1972, Emerg; December 28, 1976, Reg; March 16, 2015, Susp | ......do | Do.
Doylestown, Borough of, Bucks County | 421410 | February 17, 1977, Emerg; June 1, 1984, Reg; March 16, 2015, Susp | ......do | Do.
Doylestown, Township of, Bucks County | 420185 | December 22, 1972, Emerg; September 29, 1978, Reg; March 16, 2015, Susp | ......do | Do.
Durham, Township of, Bucks County | 420186 | September 8, 1972, Emerg; August 15, 1978, Reg; March 16, 2015, Susp | ......do | Do.
East Rockhill, Township of, Bucks County | 420187 | January 26, 1973, Emerg; August 1, 1977, Reg; March 16, 2015, Susp | ......do | Do.
Falls, Township of, Bucks County | 420188 | July 21, 1972, Emerg; September 30, 1980, Reg; March 16, 2015, Susp | ......do | Do.
Haycock, Township of, Bucks County | 421127 | July 28, 1975, Emerg; September 3, 1980, Reg; March 16, 2015, Susp | ......do | Do.
Hilltown, Township of, Bucks County | 420189 | October 6, 1972, Emerg; January 30, 1981, Reg; March 16, 2015, Susp | ......do | Do.
Hulmeville, Borough of, Bucks County | 420190 | August 16, 1973, Emerg; September 30, 1977, Reg; March 16, 2015, Susp | ......do | Do.
Langhorne, Borough of, Bucks County | 421074 | January 24, 1975, Emerg; July 2, 1980, Reg; March 16, 2015, Susp | ......do | Do.
Langhorne Manor, Borough of, Bucks County | 422336 | October 5, 1976, Emerg; February 15, 1984, Reg; March 16, 2015, Susp | ......do | Do.
Lower Makefield, Township of, Bucks County | 420191 | December 1, 1972, Emerg; September 30, 1977, Reg; March 16, 2015, Susp | ......do | Do.
Lower Southampton, Township of, Bucks County | 420192 | September 15, 1972, Emerg; March 15, 1977, Reg; March 16, 2015, Susp | ......do | Do.
Middletown, Township of, Bucks County | 420193 | October 6, 1972, Emerg; December 4, 1979, Reg; March 16, 2015, Susp | ......do | Do.
Milford, Township of, Bucks County | 422337 | June 17, 1975, Emerg; June 1, 1982, Reg; March 16, 2015, Susp | ......do | Do.
Morrisville, Borough of, Bucks County | 420194 | September 1, 1972, Emerg; September 30, 1977, Reg; March 16, 2015, Susp | ......do | Do.
New Britain, Borough of, Bucks County | 420986 | December 6, 1973, Emerg; April 2, 1979, Reg; March 16, 2015, Susp | ......do | Do.
New Britain, Township of, Bucks County | 420987 | April 18, 1973, Emerg; September 30, 1977, Reg; March 16, 2015, Susp | ......do | Do.
New Hope, Borough of, Bucks County | 420195 | January 19, 1973, Emerg; December 15, 1977, Reg; March 16, 2015, Susp | ......do | Do.
Newtown, Borough of, Bucks County | 420196 | February 5, 1975, Emerg; December 18, 1979, Reg; March 16, 2015, Susp | ......do | Do.
Newtown, Township of, Bucks County | 421084 | March 16, 1976, Emerg; December 18, 1979, Reg; March 16, 2015, Susp | ......do | Do.
Nockamixon, Township of, Bucks County | 420197 | February 2, 1973, Emerg; November 2, 1977, Reg; March 16, 2015, Susp | ......do | Do.
Northampton, Township of, Bucks County | 420988 | September 26, 1973, Emerg; February 15, 1980, Reg; March 16, 2015, Susp | ......do | Do.
Penndel, Borough of, Bucks County | 422678 | September 27, 1996, Emerg; June 20, 2001, Reg; March 16, 2015, Susp | ......do | Do.
Perkasie, Borough of, Bucks County | 420198 | September 8, 1972, Emerg; March 1, 1977, Reg; March 16, 2015, Susp | ......do | Do.
Plumstead, Township of, Bucks County | 420199 | February 25, 1973, Emerg; September 29, 1978, Reg; March 16, 2015, Susp | ......do | Do.
Quakertown, Borough of, Bucks County | 420200 | February 2, 1973, Emerg; July 5, 1977, Reg; March 16, 2015, Susp | ......do | Do.
Richland, Township of, Bucks County | 421095 | May 15, 1974, Emerg; June 15, 1981, Reg; March 16, 2015, Susp | ......do | Do.
Riegelsville, Borough of, Bucks County | 420201 | August 25, 1972, Emerg; April 17, 1978, Reg; March 16, 2015, Susp | ......do | Do.
Silverdale, Borough of, Bucks County | 422338 | February 17, 1977, Emerg; January 5, 1984, Reg; March 16, 2015, Susp | ......do | Do.
Solebury, Township of, Bucks County | 420202 | October 29, 1971, Emerg; April 15, 1977, Reg; March 16, 2015, Susp | ......do | Do.
Springfield, Township of, Bucks County | 420204 | June 14, 1973, Emerg; January 3, 1979, Reg; March 16, 2015, Susp | ......do | Do.
Tinicum, Township of, Bucks County | 420205 | November 12, 1971, Emerg; February 1, 1979, Reg; March 16, 2015, Susp | ......do | Do.
Tullytown, Borough of, Bucks County | 420206 | August 15, 1974, Emerg; February 1, 1980, Reg; March 16, 2015, Susp | ......do | Do.
Upper Makefield, Township of, Bucks County | 420207 | December 3, 1971, Emerg; October 17, 1978, Reg; March 16, 2015, Susp | ......do | Do.
Warminster, Township of, Bucks County | 420990 | October 4, 1973, Emerg; March 1, 1978, Reg; March 16, 2015, Susp | ......do | Do.
Warrington, Township of, Bucks County | 420208 | August 18, 1972, Emerg; September 29, 1978, Reg; March 16, 2015, Susp | ......do | Do.
Warwick, Township of, Bucks County | 420209 | February 18, 1972, Emerg; September 29, 1978, Reg; March 16, 2015, Susp | ......do | Do.
West Rockhill, Township of, Bucks County | 421123 | June 1, 1979, Emerg; July 5, 1984, Reg; March 16, 2015, Susp | ......do | Do.
Wrightstown, Township of, Bucks County | 421045 | February 5, 1974, Emerg; August 15, 1978, Reg; March 16, 2015, Susp | ......do | Do.
Yardley, Borough of, Bucks County | 420210 | December 10, 1971, Emerg; August 1, 1977, Reg; March 16, 2015, Susp | ......do | Do.
Region IV
Florida:
Martin County, Unincorporated Areas | 120161 | May 19, 1972, Emerg; June 15, 1981, Reg; March 16, 2015, Susp | ......do | Do.
Ocean Breeze, Town of, Martin County | 120163 | April 15, 1976, Emerg; June 15, 1981, Reg; March 16, 2015, Susp | ......do | Do.
Sewall's Point, Town of, Martin County | 120164 | July 26, 1973, Emerg; August 15, 1978, Reg; March 16, 2015, Susp | ......do | Do.
Stuart, City of, Martin County | 120165 | May 14, 1973, Emerg; August 15, 1978, Reg; March 16, 2015, Susp | ......do | Do.
Georgia:
Effingham County, Unincorporated Areas | 130076 | November 28, 1975, Emerg; March 18, 1987, Reg; March 16, 2015, Susp | ......do | Do.
Guyton, City of, Effingham County | 130456 | February 27, 1995, Emerg; June 1, 2005, Reg; March 16, 2015, Susp | ......do | Do.
Rincon, City of, Effingham County | 130426 | November 5, 1976, Emerg; February 19, 1987, Reg; March 16, 2015, Susp | ......do | Do.
Springfield, City of, Effingham County | 130427 | January 16, 1976, Emerg; March 18, 1987, Reg; March 16, 2015, Susp | ......do | Do.
Kentucky:
Barbourville, City of, Knox County | 210132 | November 23, 1973, Emerg; December 1, 1977, Reg; March 16, 2015, Susp | ......do | Do.
Bell County, Unincorporated Areas | 210010 | March 28, 1975, Emerg; February 18, 1981, Reg; March 16, 2015, Susp | ......do | Do.
Benham, City of, Harlan County | 210099 | February 5, 1975, Emerg; September 5, 1979, Reg; March 16, 2015, Susp | ......do | Do.
Corbin, City of, Knox and Whitley Counties | 210227 | August 16, 1976, Emerg; December 18, 1986, Reg; March 16, 2015, Susp | ......do | Do.
Cumberland, City of, Harlan County | 210100 | November 5, 1971, Emerg; March 15, 1977, Reg; March 16, 2015, Susp | ......do | Do.
Evarts, City of, Harlan County | 210101 | March 5, 1975, Emerg; November 19, 1980, Reg; March 16, 2015, Susp | ......do | Do.
Harlan, City of, Harlan County | 210102 | October 29, 1971, Emerg; January 17, 1979, Reg; March 16, 2015, Susp | ......do | Do.
Harlan County, Unincorporated Areas | 210098 | January 12, 1973, Emerg; August 15, 1978, Reg; March 16, 2015, Susp | ......do | Do.
Knox County, Unincorporated Areas | 210131 | July 29, 1975, Emerg; May 17, 1989, Reg; March 16, 2015, Susp | ......do | Do.
Laurel County, Unincorporated Areas | 210134 | N/A, Emerg; February 8, 2005, Reg; March 16, 2015, Susp | ......do | Do.
Letcher County, Unincorporated Areas | 210289 | September 15, 2003, Emerg; August 1, 2005, Reg; March 16, 2015, Susp | ......do | Do.
London, City of, Laurel County | 210396 | September 6, 2004, Emerg; August 2, 2006, Reg; March 16, 2015, Susp | ......do | Do.
Loyall, City of, Harlan County | 215189 | December 3, 1971, Emerg; April 6, 1973, Reg; March 16, 2015, Susp | ......do | Do.
Lynch, City of, Harlan County | 210104 | January 14, 1975, Emerg; July 2, 1979, Reg; March 16, 2015, Susp | ......do | Do.
McCreary County, Unincorporated Areas | 210343 | November 19, 1996, Emerg; September 2, 2009, Reg; March 16, 2015, Susp | ......do | Do.
Middlesboro, City of, Bell County | 215190 | December 4, 1970, Emerg; May 28, 1971, Reg; March 16, 2015, Susp | ......do | Do.
Pineville, City of, Bell County | 210012 | November 21, 1973, Emerg; June 1, 1978, Reg; March 16, 2015, Susp | ......do | Do.
Wallins Creek, City of, Harlan County | 215192 | December 7, 1971, Emerg; March 2, 1973, Reg; March 16, 2015, Susp | ......do | Do.
Whitesburg, City of, Letcher County | 210140 | June 4, 1975, Emerg; December 3, 1987, Reg; March 16, 2015, Susp | ......do | Do.
Whitley County, Unincorporated Areas | 210226 | July 9, 1975, Emerg; January 5, 1989, Reg; March 16, 2015, Susp | ......do | Do.
Williamsburg, City of, Whitley County | 210228 | March 6, 1975, Emerg; January 5, 1989, Reg; March 16, 2015, Susp | ......do | Do.
Mississippi:
Forrest County, Unincorporated Areas | 280052 | March 6, 1975, Emerg; April 2, 1990, Reg; March 16, 2015, Susp | ......do | Do.
Hattiesburg, City of, Forrest and Lamar Counties | 280053 | April 3, 1970, Emerg; April 3, 1970, Reg; March 16, 2015, Susp | ......do | Do.
Petal, City of, Forrest County | 280260 | September 27, 1974, Emerg; April 15, 1980, Reg; March 16, 2015, Susp | ......do | Do.
Tennessee:
Claiborne County, Unincorporated Areas | 470212 | April 16, 1974, Emerg; May 4, 1988, Reg; March 16, 2015, Susp | ......do | Do.
Region V
Illinois:
Cedarville, Village of, Stephenson County | 170842 | N/A, Emerg; April 11, 2011, Reg; March 16, 2015, Susp | ......do | Do.
Freeport, City of, Stephenson County | 170640 | January 28, 1973, Emerg; May 16, 1977, Reg; March 16, 2015, Susp | ......do | Do.
Lena, Village of, Stephenson County | 171340 | N/A, Emerg; August 4, 2011, Reg; March 16, 2015, Susp | ......do | Do.
Orangeville, Village of, Stephenson County | 170641 | October 25, 1996, Emerg; March 3, 2011, Reg; March 16, 2015, Susp | ......do | Do.
Ridott, Village of, Stephenson County | 170643 | N/A, Emerg; April 5, 2011, Reg; March 16, 2015, Susp | ......do | Do.
Stephenson County, Unincorporated Areas | 170639 | March 17, 1972, Emerg; February 15, 1978, Reg; March 16, 2015, Susp | ......do | Do.
Winslow, Village of, Stephenson County | 170644 | June 30, 1975, Emerg; November 17, 1982, Reg; March 16, 2015, Susp | ......do | Do.
Michigan:
Arenac, Township of, Arenac County | 260251 | August 16, 1974, Emerg; July 3, 1986, Reg; March 16, 2015, Susp | ......do | Do.
Au Gres, City of, Arenac County | 260012 | July 26, 1973, Emerg; May 17, 1989, Reg; March 16, 2015, Susp | ......do | Do.
Au Gres, Township of, Arenac County | 260013 | May 15, 1973, Emerg; May 17, 1989, Reg; March 16, 2015, Susp | ......do | Do.
Deep River, Township of, Arenac County | 260350 | March 10, 1982, Emerg; August 19, 1985, Reg; March 16, 2015, Susp | ......do | Do.
Lincoln, Township of, Arenac County | 260014 | February 21, 1996, Emerg; November 5, 2009, Reg; March 16, 2015, Susp | ......do | Do.
Omer, City of, Arenac County | 260622 | February 7, 2014, Emerg; N/A, Reg; March 16, 2015, Susp | ......do | Do.
Sims, Township of, Arenac County | 260015 | May 7, 1973, Emerg; June 1, 1978, Reg; March 16, 2015, Susp | ......do | Do.
Standish, City of, Arenac County | 260016 | September 4, 1975, Emerg; September 27, 1985, Reg; March 16, 2015, Susp | ......do | Do.
Standish, Township of, Arenac County | 260017 | May 25, 1973, Emerg; August 4, 1987, Reg; March 16, 2015, Susp | ......do | Do.
Turner, Township of, Arenac County | 260351 | October 29, 1998, Emerg; N/A, Reg; March 16, 2015, Susp | ......do | Do.
Turner, Village of, Arenac County | 260550 | October 22, 1987, Emerg; September 30, 1988, Reg; March 16, 2015, Susp | ......do | Do.
Whitney, Township of, Arenac County | 260018 | May 25, 1973, Emerg; June 1, 1978, Reg; March 16, 2015, Susp | ......do | Do.
Region VII
Kansas:
Manhattan, City of, Pottawatomie and Riley Counties | 200300 | January 30, 1974, Emerg; April 1, 1982, Reg; March 16, 2015, Susp | ......do | Do.
Ogden, City of, Riley County | 200301 | June 26, 1975, Emerg; October 15, 1981, Reg; March 16, 2015, Susp | ......do | Do.
Pottawatomie County, Unincorporated Areas | 200621 | August 5, 1975, Emerg; February 17, 1988, Reg; March 16, 2015, Susp | ......do | Do.
Riley County, Unincorporated Areas | 200298 | June 23, 1975, Emerg; April 1, 1982, Reg; March 16, 2015, Susp | ......do | Do.
* -do- =Ditto.
Code for reading third column: Emerg.—Emergency; Reg.—Regular; Susp.—Suspension.

Dated: February 6, 2015.
David L. Miller,
Associate Administrator, Federal Insurance and Mitigation Administration, Department of Homeland Security, Federal Emergency Management Agency.

[FR Doc. 2015-03954 Filed 2-25-15; 8:45 am]

BILLING CODE 9110-12-P